DEPARTMENT OF HEALTH AND HUMAN SERVICES

National Institutes of Health

National Institute on Alcohol Abuse and Alcoholism; Amended Notice of Meeting

Notice is hereby given of a change in the meeting of the National Advisory Council on Alcohol Abuse and Alcoholism, June 10, 2015, 09:15 a.m. to June 10, 2015, 04:00 p.m., National Institutes of Health, 5635 Fishers Lane, Terrace Conference Rooms, Bethesda, MD 20892 which was published in the Federal Register on May 05, 2015, 80 FR 25703.

This notice is being amended to change the start times of the closed session from 9:15 a.m. to 9:00 a.m. and the open session from 11:00 a.m. to 10:15 a.m. on June 10, 2015. The meeting is partially closed to the public.

Dated: May 11, 2015.
Melanie J. Gray-Pantoja,
Program Analyst, Office of Federal Advisory Committee Policy.

[FR Doc. 2015-11706 Filed 5-14-15; 8:45 am]

BILLING CODE 4140-01-P